DEPARTMENT OF COMMERCE

International Trade Administration

[A-580-839, A-583-833]

Polyester Staple Fiber From the Republic of Korea and Taiwan: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on polyester staple fiber (PSF) from the Republic of Korea (Korea) and Taiwan would be likely to lead to continuation or recurrence of dumping at levels identified in the “Final Results of Sunset Reviews” section of this notice.

DATES: Applicable May 9, 2022.

FOR FURTHER INFORMATION CONTACT: Theodore Pearson, AD/CVD Operations, Office I, Enforcement and Compliance, International Trade Administration, U.S. Department of Commerce, 1401 Constitution Avenue NW, Washington, DC 20230; telephone: (202) 482-2631.

SUPPLEMENTARY INFORMATION:

Background

On May 25, 2000, Commerce published the AD orders on PSF from Korea and Taiwan.¹ On January 3, 2022, Commerce published the notice of initiation of the fourth sunset reviews of the Orders, pursuant to section 751(c) of the Tariff Act of 1930, as amended (the Act).² On January 14, 2022, Commerce received timely and complete notices of intent to participate in these sunset reviews from the domestic interested parties ³ within the deadline specified in 19 CFR 351.218(d)(1)(i), after the date of publication of the Initiation Notice.⁴ The domestic interested parties claimed interested party status under sections 771(9)(C) of the Act as manufacturers in the United States of the domestic-like product.

¹ See Notice of Amended Final Determination of Sales at Less Than Fair Value: Certain Polyester Staple Fiber from the Republic of Korea and Antidumping Duty Orders: Certain Polyester Staple Fiber from the Republic of Korea and Taiwan, 65 FR 33807 (May 25, 2000) (Orders); see also Certain Polyester Staple Fiber from Korea: Notice of Amended Final Determination and Amended Order Pursuant to Final Court Decision, 68 FR 74552 (December 24, 2003) (Korea Amended Order).

² See Initiation Notice of Five-Year (Sunset) Reviews, 87 FR 76 (January 3, 2022) (Initiation Notice).

³ The domestic interested parties are Auriga Polymers Inc. (Auriga), Fiber Industries LLC (Fiber Industries), and Nan Ya Plastics Corporation, America (Nan Ya America) (collectively, domestic interested parties).

⁴ See Domestic Interested Parties' Letters, “Five-Year Sunset Review of the Antidumping Order on Polyester Staple Fiber from the Republic of Korea—Notice of Intent to Participate,” and “Five-Year Sunset Review of the Antidumping Order on Polyester Staple Fiber from Taiwan—Notice of Intent to Participate,” both dated January 14, 2022 (collectively, Notice of Intent to Participate).

On February 2, 2022, the domestic interested parties filed timely and adequate substantive responses, within the deadline specified in 19 CFR 351.218(d)(3)(i).⁵ Commerce received no substantive responses from any respondent interested parties nor was a hearing requested.⁶ As a result, pursuant to section 751(c)(3)(B) of the Act and 19 CFR 351.218(e)(1)(ii)(C)(2), Commerce conducted expedited, i.e., 120-day, sunset reviews of the Orders.

⁵ See Domestic Interested Parties' Letters, “Polyester Staple Fiber from the Republic of Korea—Domestic Interested Parties Substantive Response”; and “Polyester Staple Fiber from Taiwan—Domestic Interested Parties Substantive Response,” both dated February 2, 2022.

⁶ See Commerce's Letter, “Sunset Reviews Initiated on January 3, 2022,” dated February 22, 2022.

Scope of the Orders

The merchandise subject to the Orders is PSF from Korea and Taiwan. For a complete description of the scope of the Orders, see the Issues and Decision Memorandum.⁷

⁷ See Memorandum, “Issues and Decision Memorandum for the Expedited Sunset Reviews of the Antidumping Duty Orders on Polyester Staple Fiber from the Republic of Korea and Taiwan,” dated concurrently with, and hereby adopted by, this notice (Issues and Decision Memorandum).

Analysis of Comments Received

A complete discussion of all issues raised in these reviews is provided in the Issues and Decision Memorandum, A list of the topics discussed in the Issues and Decision Memorandum is attached as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be found at https://access.trade.gov/public/FRNoticesListLayout.aspx.

Final Results of Sunset Reviews

Pursuant to sections 751(c) and 752(c) of the Act, Commerce determines that revocation of the Orders would be likely to lead to continuation or recurrence of dumping and the magnitude of the dumping margins likely to prevail would be weighted-average margins of up to the following percentages:

Country | Weighted- average dumping margin (percent)
Korea | 7.48
Taiwan | 9.90

Notification Regarding Administrative Protective Orders

This notice also serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.221(c)(5)(ii).

Dated: May 3, 2022.
Lisa W. Wang,
Assistant Secretary for Enforcement and Compliance.

Appendix—List of Topics Discussed in the Issues and Decision Memorandum

I. Summary

II. Background

III. Scope of the Orders

IV. History of the Orders

V. Legal Framework

VI. Discussion of the Issues

1. Likelihood of Continuation or RecmTence of Dumping

2. Magnitude of the Dumping Margins Likely to Prevail

VII. Final Results of Expedited Sunset Reviews

VIII. Recommendation

[FR Doc. 2022-09912 Filed 5-6-22; 8:45 am]

BILLING CODE 3510-DS-P